ENVIRONMENTAL PROTECTION AGENCY

[ER-FRL-8987-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html.

Including the entire EIS comment letters on the Web site satisfies the Section 309(a) requirement to make EPA's comments on EISs available to the public. Accordingly, after March 31, 2010, EPA will discontinue the publication of this notice of availability of EPA comments in the Federal Register.

Draft EISs

EIS No. 20080460, ERP No. D-FHW-J40186-CO, I-70 East Project, Transportation Improvement from I-70 East from 1-25 to Tower Road, Funding, City and County Denver, CO.

Summary: EPA expressed environmental concern about air quality impacts. EPA recommended additional mitigation for PM10 impacts, dispersion modeling and possible additional mitigation for MSAT impacts. Rating EC2.

EIS No. 20090058, ERP No. D-AFS-J65534-MT, Miller West Fisher Project, Proposes Land Management Activities, including Timber Harvest, Access Management, Road Storage and Decommissioning, Prescribed Burning and Precommercial Thinning, Miller Creek, West Fisher Creek and the Silver Butte Fisher River, Libby Ranger District, Kootenai National Forest, Lincoln County, MT.

Summary: EPA expressed environmental concern about channel stability in Miller Creek as a result of water yield increases from proposed timber harvests, and noted the need to assure project consistency with TMDL preparation in the watershed of the water quality impaired Fisher River. Rating EC2.

EIS No. 20090196, ERP No. D-SFW-J99043-MT, Montana Department of Natural and Resources and Conservation Plan (HCP), Forested State Trust Lands, Designed to Minimize and Mitigate any such Take of Endangered or Threatened Species, Application for an Incidental Take Permit, MT.

Summary: EPA expressed environmental concern about impacts to water quality, aquatic habitat, aquatic ecological functions, and recommended additional protections and commitments to provide more comprehensive protection. Rating EC2.

EIS No. 20090257, ERP No. D-BLM-J65545-SD, Dewey Conveyor Project, To Transport Limestone from a Future Quarry Location to a Rail Load-Out Facility near Dewey, Application for Transportation and Utility Systems and Facilities on Federal Lands, Custer County, SD.

Summary: EPA expressed environmental concern about air quality impacts, especially regarding connected action sources including the limestone quarry and subsequent mining activities that would likely have significant particulate emissions. EPA also requested additional information on water resources in the project and quarry areas. Rating EC2.

EIS No. 20090371, ERP No. D-NPS-E65086-KY, Cumberland Gap National Historical Park, General Management Plan, Implementation, Middlesboro, KY.

Summary: While EPA has no objection to the proposed action, EPA did recommend additional monitoring activities to ensure that the increase in hardened access areas and likely subsequent increase in recreational and educational usage of the park do not negatively impact natural and cultural resources. Rating LO.

EIS No. 20090388, ERP No. D-AFS-L65524-0R, Fremont-Winema National Forests Invasive Plant Treatment, Propose to Treat up to 8,700 Acres of Invasive Plant Infestation Per Year, Klamath and Lake Counties, OR.

Summary: EPA expressed environmental concern about monitoring and adaptive Management issues. Rating EC2.

EIS No. 20090407, ERP No. D-NOA-L91034-00, Rationalization of the Pacific Coast Groundfish Limited Entry Trawl Fishery, Amendment 20, Implementation, WA, OR and CA.

Summary: EPA does not object to the proposed action. Rating LO.

EIS No. 20090418, ERP No. D-COE-E39078-NC, The Town of Nags Head Beach Nourishment Project, Propose to Utilize a Self-Contained Hooper Dredge and Other Feasible Dredging Equipment during a Proposed Construction Window from April through September, Dare County, NC.

Summary: EPA expressed environmental concerns about the use of hopper dredges and their potential effect on marine and threatened and endangered resources. EPA has requested that the Final SEIS include the finalized mitigation plan, the finalized sea turtle protocol, the map of the final borrow areas, and some representative boring logs from the selected final borrow areas. Rating EC2.

EIS No. 20090410, ERP No. DS-IBR-K36146-CA, Mormon Island Auxiliary Dam Modification Project, Addressing Hydrologic, Seismic, Static, and Flood Management Issues, Sacramento and El Dorado Counties, CA.

Summary: EPA expressed environmental concerns about construction air quality impacts, exposure to Naturally Occurring Asbestos, and impacts to vernal pools, wetlands, and riparian habitat. EPA recommended continued coordination with Air Quality Management Districts, inclusion of the Section 404 Permit for the Folsom Dam Safety/Flood Damage Reduction Project, and a description of the 404 permit amendments for the MIAD Modification Project. Rating EC2.

Final EISs

EIS No. 20090078, ERP No. F-NIH-J81013-MT, Rocky Mountain Laboratories (RML) Master Plan, Implementation, Hamilton, Ravalli County, MT.

Summary: EPA's previous concerns have been resolved; therefore, EPA has no objection to the proposed action.

EIS No. 20090339, ERP No. F-AFS-J65539-00, Ashley National Forest Motorized Travel Plan, To Improve Management of Public Summer Motorized Use by Designating Roads and Motorized Trails and Limiting Dispersed Camping to Areas, Duchesne, Daggett, Uintah Counties, Utah and Sweetwater County, Wyoming.

Summary: The preparing agencies responded adequately to EPA's comments on the DEIS. There are no continuing significant issues.

EIS No. 20090366, ERP No. F-FHW-J40177-CO, US-36 Corridor, Multi-Modal Transportation Improvements between I-25 in Adams County and Foothills Parkway/Table Mesa Drive in Boulder, Adams, Denver, Broomfield, Boulder and Jefferson Counties, CO.

Summary: EPA continues to express environmental concern about water quality impacts. EPA recommended long-term monitoring and maintenance of storm water best management practices. EPA requested clarification of air quality discussion related to particulate matter emissions be included in the record of decision.

EIS No. 20090416, ERP No. F-UMC-E11070-NC, U.S. Marine Corps Grow the Force at MCB Camp Lejeune, MCAS New River, and MCAS Cherry Point, To Provide the Infrastructure to Support the Permanent Increases at these three Installations, US Army Corps Section 404 and 10 Permits, City of Jacksonville, NC.

Summary: EPA recommended that a comprehensive alternative transportation program be developed to assist the area in meeting air quality standards in the future.

EIS No. 20090433, ERP No. F-AFS-K65366-CA, Lassen National Forest, Motorized Travel Management Plan, Implementation, Butte, Lassen, Modoc, Plumas, Shasta, Siskiyou, Tehama Counties, CA.

Summary: EPA continues to express environmental concerns about impacts to water quality and sensitive resources.

EIS No. 20090444, ERP No. F-USA-G11051-NM, White Sands Missile Range (WSMR), Development and Implementation of Range-Wide Mission and Major Capabilities, NM.

Summary: No formal comment letter was sent to the preparing agency. EIS No. 20090441, ERP No. FS-FHW-E40768-TN, Shelby Avenue/Demonbreun Street (Gateway Boulevard Corridor, from I-65 North [I-24 West] to I-40 West in Downtown Nashville, To Address Transportation needs in the Study Area. Davidson County, TN.

Summary: EPA continues to have environmental concerns about MSAT impacts.

Dated: January 26, 2010.
Ken Mittelholtz,
Deputy Director, NEPA Compliance Division, Office of Federal Activities.

[FR Doc. 2010-1860 Filed 1-28-10; 8:45 am]

BILLING CODE 6560-50-P